DEPARTMENT OF LABOR

Employment and Training Administration

[TA-W-40,385]

Steag Hamatech, Inc., Saco, Maine; Notice of Termination of Investigation

Pursuant to section 221 of the Trade Act of 1974, an investigation was initiated on December 3, 2001, in response to a worker petition, which was filed on behalf of workers at Steag Hamatech, Inc., Saco, Maine.

An active certification covering the petitioning group of workers remains in effect (TA-W-38,953). Consequently, further investigation in this case would serve no purpose, and the investigation has been terminated.

Signed in Washington, DC this 31st day of December, 2001.
Linda G. Poole,
Certifying Officer, Division of Trade Adjustment Assistance.

[FR Doc. 02-713 Filed 1-10-02; 8:45 am]

BILLING CODE 4510-30-M